DEPARTMENT OF DEFENSE

Department of the Navy

Privacy Act of 1974; System of Records

AGENCY: Department of the Navy, DoD.

ACTION: Notice to alter a system of records.

SUMMARY: The Department of the Navy proposes to alter seven system of records notices in its inventory of record systems subject to the Privacy Act of 1974 (5 U.S.C. 552a), as amended.

DATES: This action will be effective on February 7, 2001 unless comments are received that would result in a contrary determination.

ADDRESSES: Send comments to the Department of the Navy, PA/FOIA Policy Branch, Chief of Naval Operations (N09B30), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system report, as required by 5 U.S.C. 552a(r) of the Privacy Act was submitted on December 19, 2000, to the House Committee on Government Reform, the Senate Committee on Governmental Affairs, and the Office of Management and Budget (OMB) pursuant to paragraph 4c of Appendix I to OMB Circular No. A-130, “Federal Agency Responsibilities for Maintaining Records About Individuals,” dated February 8, 1996 (61 FR 6427, February 20, 1996).

Dated: December 20, 2000.
Patricia L. Toppings,
Alternate OSD Federal Register Liaison Officer, Department of Defense.

N05810-2

System name:

Military Justice Correspondence and Information File (May 7, 1999, 64 FR 24619).

Changes:

* * * * *

Category of records in the system:

Delete entry and replace with “Files contain background information relevant to specific military justice cases, copies of incoming and outgoing correspondence relating to military justice cases, and may contain information relating to the Victim and Witness Assistance Program, the Sexual Assault Prevention and Response Program, and the Victim's Rights and Restitution Act of 1990.”

Authority for maintenance of the system:

Delete entry and replace with “5 U.S.C. 301, Departmental Regulations and 42 U.S.C. 10601 et seq., Victim's Rights and Restitution Act of 1990 as implemented by DoD Instruction 1030.2, Victim and Witness Assistance Procedures.”

Purpose(s):

Add a new paragraph “To provide information and support to victims and witnesses in compliance with the Victim and Witness Assistance Program, the Sexual Assault Prevention and Response Program, and the Victims' Rights and Restitution Act of 1990.”

Routine uses of records maintained in the system, including categories of users and the purposes of such uses:

Add a new paragraph “To victims and witnesses to comply with the Victim and Witness Assistance Program, the Sexual Assault Prevention and Response Program, and the Victims' Rights and Restitution Act of 1990.”

* * * * *

N05810-2

System name:

Military Justice Correspondence and Information File.

System location:

Office of the Judge Advocate General (Code 20), Department of the Navy, 716 Sicard Street SE, Suite 1000, Washington Navy Yard, DC 20374-5047 and duplicate copies may be maintained in local legal office file.

Categories of individuals covered by the system:

Active duty, retired, and discharged Navy and Marine Corps personnel who were the subject of military justice proceedings or investigations.

Categories of records in the system:

Files contain background information relevant to specific military justice cases, copies of incoming and outgoing correspondence relating to military justice cases, and may contain information relating to the Victim and Witness Assistance Program, the Sexual Assault Prevention and Response Program, and the Victim's Rights and Restitution Act of 1990.

Authority for maintenance of the system:

5 U.S.C. 301, Departmental Regulations and 42 U.S.C. 10601 et seq., Victim's Rights and Restitution Act of 1990 as implemented by DoD Instruction 1030.2, Victim and Witness Assistance Procedures.

Purpose(s):

To provide a record of individual inquiries and JAG responses concerning military justice related matters, and to maintain background information on military justice matters to assist in responding to inquiries.

To provide information and support to victims and witnesses in compliance with the Victim and Witness Assistance Program, the Sexual Assault Prevention and Response Program, and the Victims' Rights and Restitution Act of 1990.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To victims and witnesses to comply with the Victim and Witness Assistance Program, the Sexual Assault Prevention and Response Program, and the Victims' Rights and Restitution Act of 1990.

The DoD “Blanket Routine Uses” that appear at the beginning of the Navy's compilation of system notices apply to this system.

Policies and practices for storing, retrieving, accessing, retaining, and disposing of records in the system:

Storage:

File folders, binder-notebooks, and computer hard drive and floppy disks.

Retrievability:

Files are kept in alphabetical order according to the last name of the individual who is the subject of the file.

Safeguards:

Files are maintained in file cabinets and other storage devices under the control of authorized personnel during working hours; the office space in which the file cabinets and storage devices are located is locked outside of working hours.

Retention and disposal:

Records are maintained in office for two years and then forwarded to the Federal Records Center, Suitland, MD 20409 for storage; files containing background material are maintained on computer hard drive for two years and then purged.

System manager(s) and address:

Assistant Judge Advocate General (Military Justice), Office of the Judge Advocate General, Department of the Navy, 716 Sicard Street SE, Suite 1000, Washington Navy Yard, DC 20374-5047.

Notification procedure:

Individuals seeking to determine whether this system of records contains information about themselves should address written inquiries to the Deputy Assistant Judge Advocate General (Criminal Law), Office of the Judge Advocate General, Department of the Navy, 716 Sicard Street SE, Suite 1000, Washington Navy Yard, DC 20374-5047.

Information may be obtained by written request stating the full name of the individual concerned. Written requests must be signed by the requesting individual. Personal visits may be made to the Criminal Law Division, Office of the Judge Advocate General at the above address. Individuals making such visits should be able to provide some acceptable identification, e.g., Armed Forces' identification card, driver's license, etc.

Record access procedures:

Individuals seeking access to records about themselves should address written inquiries to the Deputy Assistant Judge Advocate General (Criminal Law), Office of the Judge Advocate General, Department of the Navy, 716 Sicard Street SE, Suite 1000, Washington Navy Yard, DC 20374-5047.

Information may be obtained by written request stating the full name of the individual concerned. Written requests must be signed by the requesting individual. Personal visits may be made to the Criminal Law Division, Office of the Judge Advocate General at the above address. Individuals making such visits should be able to provide some acceptable identification, e.g., Armed Forces' identification card, driver's license, etc.

Contesting record procedures:

The Navy's rules for accessing records, and for contesting contents and appealing initial agency determinations are published in Secretary of the Navy Instruction 5211.5; 32 CFR part 701; or may be obtained from the system manager.

Record source categories:

Records in this system are compiled from information received from naval field offices, records of trial, and correspondence.

Exemptions claimed for the system:

None.

N05813-3

System name:

Records of Trial of General Courts-Martial (August 3, 1999, 64 FR 42106).

Changes:

* * * * *

Authority for maintenance of the system:

Delete entry and replace with “5 U.S.C. 301, Departmental Regulations; 10 U.S.C. 865; and 42 U.S.C. 10601 et seq., Victim's Rights and Restitution Act of 1990 as implemented by DoD Instruction 1030.2, Victim and Witness Assistance Procedures.”

Purpose(s):

Add a new paragraph “To provide information and support to victims and witnesses in compliance with the Victim and Witness Assistance Program, the Sexual Assault Prevention and Response Program, and the Victims' Rights and Restitution Act of 1990.”

Routine uses of records maintained in the system, including categories of users and the purposes of such uses:

Add a new paragraph “To victims and witnesses of a crime for purposes of providing information, consistent with the requirements of the Victim and Witness Assistance Program, regarding the investigation and disposition of an offense.”

* * * * *

N05813-3

System name:

Records of Trial of General Courts-Martial.

System location:

Navy and Marine Corps Appellate Review Activity, Office of the Judge Advocate General, Department of the Navy, 716 Sicard Street SE, Suite 1000, Washington Navy Yard, DC 20374-5047.

Categories of individuals covered by the system:

Active duty Navy and Marine Corps personnel tried by general courts-martial.

Categories of records in the system:

General courts-martial records of trial.

Authority for maintenance of the system:

5 U.S.C. 301, Departmental Regulations; 10 U.S.C. 865; and 42 U.S.C. 10601 et seq., Victim's Rights and Restitution Act of 1990 as implemented by DoD Instruction 1030.2, Victim and Witness Assistance Procedures.

Purpose(s):

To complete appellate review as required under 10 U.S.C. 866, 867, 869 and provide central repository accessible to the public who may request information concerning the appellate review or want copies of individual public records.

To provide information and support to victims and witnesses in compliance with the Victim and Witness Assistance Program, the Sexual Assault Prevention and Response Program, and the Victims' Rights and Restitution Act of 1990.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To victims and witnesses of a crime for purposes of providing information, consistent with the requirements of the Victim and Witness Assistance Program, regarding the investigation and disposition of an offense.

The DoD ‘Blanket Routine Uses’ that appear at the beginning of the Navy's compilation of systems of records notices apply to this system.

Policies and practices for storing, retrieving, accessing, retaining, and disposing of records in the system:

Storage:

File folders.

Retrievability:

Files are kept by Navy courts-martial number and each case is cross-referenced by an index card which is filed in alphabetical order according to the last name of the individual concerned.

Safeguards:

Files are maintained in file cabinets under the control of authorized personnel during working hours; the office space in which the file cabinets are located is locked outside official working hours.

Retention and disposal:

Records are maintained in office for three years and then forwarded to the Washington Federal Records Center, 4205 Suitland Road, Suitland, MD 20409 for storage.

System manager(s) and address:

Assistant Judge Advocate General (Military Law), Office of the Judge Advocate General, Department of the Navy, 716 Sicard Street SE, Suite 1000, Washington Navy Yard, DC 20374-5047.

Notification procedure:

Individuals seeking to determine whether this system contains information about themselves should address written inquiries to the Division Director, Administrative Support Division, Navy and Marine Corps Appellate Review Activity, Office of the Judge Advocate General, Department of the Navy, 716 Sicard Street SE, Suite 1000, Washington Navy Yard, DC 20374-5047.

The request should contain full name and address of the individual concerned and should be signed.

Personal visits may be made to the Administrative Support Division, Navy and Marine Corps Appellate Review Activity, Office of the Judge Advocate General, Department of the Navy, 716 Sicard Street SE, Suite 1000, Washington Navy Yard, DC 20374-5047. Individuals making such visits should be able to provide acceptable identification, e.g., Armed Forces identification card, driver's license, etc.

Record access procedures:

Individuals seeking access to information about themselves contained in this system of records should address written inquiries to the Division Director, Administrative Support Division, Navy and Marine Corps Appellate Review Activity, Office of the Judge Advocate General, Department of the Navy, 716 Sicard Street SE, Suite 1000, Washington Navy Yard, DC 20374-5047.

The request should contain full name and address of the individual concerned and should be signed.

Personal visits may be made to the Administrative Support Division, Navy and Marine Corps Appellate Review Activity, Office of the Judge Advocate General, Department of the Navy, 716 Sicard Street SE, Suite 1000, Washington Navy Yard, DC 20374-5047. Individuals making such visits should be able to provide acceptable identification, e.g., Armed Forces identification card, driver's license, etc.

Contesting record procedures:

The Navy's rules for accessing records, and for contesting contents and appealing initial agency determinations are published in Secretary of the Navy Instruction 5211.5; 32 CFR part 701; or may be obtained from the system manager.

Record source categories:

Proceedings by a general courts-martial.

Exemptions claimed for the system:

None.

N05813-5

System name:

Record of Trial of Special Courts-Martial Resulting in Bad Conduct Discharges or Concerning Officers (June 8, 1999, 64 FR 30497)

Changes:

* * * * *

Purpose(s):

Add a new paragraph “To provide information and support to victims and witnesses in compliance with the Victim and Witness Assistance Program, the Sexual Assault Prevention and Response Program, and the Victims' Rights and Restitution Act of 1990.”

Routine uses of records maintained in the system, including categories of users and the purposes of such uses:

Add a new paragraph “To victims and witnesses of a crime for purposes of providing information, consistent with the requirements of the Victim and Witness Assistance Program, regarding the investigation and disposition of an offense.”

* * * * *

N05813-5

System name:

Record of Trial of Special Courts-Martial Resulting in Bad Conduct Discharges or Concerning Officers.

System location:

Administrative Support Division, Navy and Marine Corps Appellate Review Activity, Office of the Judge Advocate General, Department of the Navy, 716 Sicard Street SE, Suite 1000, Washington Navy Yard, DC 20374-5047.

Categories of individuals covered by the system:

Navy and Marine Corps personnel tried by special courts-martial and awarded a bad conduct discharge, and all Navy and Marine Corps commissioned officers tried by special courts-martial.

Categories of records in the system:

Special courts-martial which resulted in a bad conduct discharge, or involving commissioned officers.

Authority for maintenance of the system:

5 U.S.C. 301, Departmental Regulations; 10 U.S.C. 865; 10 U.S.C. 866(b); and 42 U.S.C. 10601 et seq., Victim's Rights and Restitution Act of 1990 as implemented by DoD Instruction 1030.2, Victim and Witness Assistance Procedures.

Purpose(s):

To complete appellate review as required under 10 U.S.C. 866(b) and provide central repository accessible to the public who may request information concerning the appellate review or want copies of individual public records.

To provide information and support to victims and witnesses in compliance with the Victim and Witness Assistance Program, the Sexual Assault Prevention and Response Program, and the Victims' Rights and Restitution Act of 1990.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To victims and witnesses of a crime for purposes of providing information, consistent with the requirements of the Victim and Witness Assistance Program, regarding the investigation and disposition of an offense.

The DoD ‘Blanket Routine Uses’ that appear at the beginning of the Navy's compilation of systems of records apply to this system.

Policies and practices for storing, retrieving, accessing, retaining, and disposing of records in the system:

Storage:

File folders.

Retrievability:

Files are kept by Navy courts-martial number and each case is cross-referenced by an index card which is filed in alphabetical order according to the last name of the individual concerned.

Safeguards:

Files are maintained in file cabinets and other storage devices under the control of authorized personnel during working hours; the office space in which the file cabinets and storage devices are located is locked outside official working hours.

Retention and disposal:

Records are maintained in office for three years and then forwarded to the Washington Federal Records Center, 4205 Suitland Road, Suitland, MD 20409 for storage.

System manager(s) and address:

Assistant Judge Advocate General (Military Justice), Office of the Judge Advocate General, Department of the Navy, 716 Sicard Street SE, Suite 1000, Washington Navy Yard, DC 20374-5047.

Notification procedure:

Individuals seeking to determine whether this system contains information about themselves should address written inquiries to the Division Director, Administrative Support Division, Navy and Marine Corps Appellate Review Activity, Office of the Judge Advocate General, Department of the Navy, 716 Sicard Street SE, Suite 1000, Washington Navy Yard, DC 20374-5047.

The request should contain full name and address of the individual concerned and should be signed.

Personal visits may be made to the Administrative Support Division, Navy and Marine Corps Appellate Review Activity, Office of the Judge Advocate General, Department of the Navy, 716 Sicard Street SE, Suite 1000, Washington Navy Yard, DC 20374-5047. Individuals making such visits should be able to provide acceptable identification, e.g., Armed Forces identification card, driver's license, etc.

Record access procedures:

Individuals seeking access to information about themselves contained in this system of records should address written inquiries to the Division Director, Administrative Support Division, Navy and Marine Corps Appellate Review Activity, Office of the Judge Advocate General, Department of the Navy, 716 Sicard Street SE, Suite 1000, Washington Navy Yard, DC 20374-5047.

The request should contain full name and address of the individual concerned and should be signed.

Personal visits may be made to the Administrative Support Division, Navy and Marine Corps Appellate Review Activity, Office of the Judge Advocate General, Department of the Navy, 716 Sicard Street SE, Suite 1000, Washington Navy Yard, DC 20374-5047. Individuals making such visits should be able to provide acceptable identification, e.g., Armed Forces identification card, driver's license, etc.

Contesting record procedures:

The Navy's rules for accessing records, and for contesting contents and appealing initial agency determinations are published in Secretary of the Navy Instruction 5211.5; 32 CFR part 701; or may be obtained from the system manager.

Record source categories:

Special courts-martial proceedings.

Exemptions claimed for the system:

None.

N05813-6

System name:

Summary and Non-BCD Special Courts-Martial Records of Trial (June 8, 1999, 64 FR 30497).

Changes:

* * * * *

Purpose(s):

Add a new paragraph “To provide information and support to victims and witnesses in compliance with the Victim and Witness Assistance Program, the Sexual Assault Prevention and Response Program, and the Victims' Rights and Restitution Act of 1990.”

Routine uses of records maintained in the system, including categories of users and the purposes of such uses:

Add a new paragraph “To victims and witnesses of a crime for purposes of providing information, consistent with the requirements of the Victim and Witness Assistance Program, regarding the investigation and disposition of an offense.”

* * * * *

N05813-6

System name:

Summary and Non-BCD Special Courts-Martial Records of Trial.

System location:

Organizational elements of the Department of the Navy. Official mailing addresses are published as an appendix to the Navy's compilation of systems of records notices.

Categories of individuals covered by the system:

Navy and Marine Corps enlisted personnel tried by summary courts-martial or by special courts-martial which did not result in a bad conduct discharge (BCD).

Categories of records in the system:

Summary courts-martial and non-BCD special courts-martial records of trial.

Authority for maintenance of the system:

5 U.S.C. 301, Departmental Regulations; 10 U.S.C. 865; and 42 U.S.C. 10601 et seq., Victim's Rights and Restitution Act of 1990 as implemented by DoD Instruction 1030.2, Victim and Witness Assistance Procedures.

Purpose(s):

To complete appellate review as required under 10 U.S.C. 864(a) and provide repositories accessible to the public who may request information concerning the appellate review or want copies of individual public records.

To provide information and support to victims and witnesses in compliance with the Victim and Witness Assistance Program, the Sexual Assault Prevention and Response Program, and the Victims' Rights and Restitution Act of 1990.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To victims and witnesses of a crime for purposes of providing information, consistent with the requirements of the Victim and Witness Assistance Program, regarding the investigation and disposition of an offense.

The DoD ‘Blanket Routine Uses’ that appear at the beginning of the Navy's compilation of systems of records notices apply to this system.

Policies and practices for storing, retrieving, accessing, retaining, and disposing of records in the system:

Storage:

File folders.

Retrievability:

Type of courts-martial, date, command which convened the courts-martial, name of individual defendant, and command which completed the supervisory authority's action.

Safeguards:

Files are maintained in file cabinets and other storage devices under the control of authorized personnel during working hours; the office space in which the file cabinets and storage devices are located is locked outside official working hours.

Retention and disposal:

Records are retained for two years after final action by officers having supervisory authority over shore activities, and for three months by officers having supervisory authority over fleet activities. At the termination of the appropriate retention period, records are forwarded for storage to the National Personnel Records Center (Military Personnel Records), GSA, 9700 Page Avenue, St. Louis, MO 63132-5100. Records are destroyed 15 years after final action has been taken.

System manager(s) and address:

Assistant Judge Advocate General (Military Justice), Office of the Judge Advocate General, Department of the Navy, 716 Sicard Street SE, Suite 1000, Washington Navy Yard, DC 20374-5047 or appropriate officer having supervisory authority over the naval activity which convened the court-martial.

Notification procedure:

Individuals seeking to determine whether this system of records contains information about themselves should address written inquiries to the Division Director, Administrative Support Division, Navy-Marine Corps Appellate Review Activity, Office of the Judge Advocate General, Department of the Navy, 716 Sicard Street SE, Suite 1000, Washington Navy Yard, DC 20374-5047.

The request should include the full name of the individual concerned, the type of courts-martial (summary or special), the name of the command which held the courts-martial, and the date of the courts-martial proceedings. Written requests must be signed by the requesting individual.

Record access procedures:

Individuals seeking access to records about themselves contained in this system of records should address written inquiries to the Division Director, Administrative Support Division, Navy-Marine Corps Appellate Review Activity, Office of the Judge Advocate General, Department of the Navy, 716 Sicard Street SE, Suite 1000, Washington Navy Yard, DC 20374-5047.

The request should include the full name of the individual concerned, the type of courts-martial (summary or special), the name of the command which held the courts-martial, and the date of the courts-martial proceedings. Written requests must be signed by the requesting individual.

Contesting record procedures:

The Navy's rules for accessing records, and for contesting contents and appealing initial agency determinations are published in Secretary of the Navy Instruction 5211.5; 32 CFR part 701; or may be obtained from the system manager.

Record source categories:

Proceedings of summary courts-martial and special courts-martial which did not result in a bad conduct discharge.

Exemptions claimed for the system:

None.

N05814-3

System name:

Courts-Martial Information (August 3, 1999, 64 FR 42106).

Changes:

* * * * *

Purpose(s):

Add a new paragraph “To provide information and support to victims and witnesses in compliance with the Victim and Witness Assistance Program, the Sexual Assault Prevention and Response Program, and the Victims' Rights and Restitution Act of 1990.”

Routine uses of records maintained in the system, including categories of users and the purposes of such uses:

Add a new paragraph “To victims and witnesses to comply with the Victim and Witness Assistance Program, the Sexual Assault Prevention and Response Program, and the Victims' Rights and Restitution Act of 1990.”

* * * * *

N05814-3

System name:

Courts-Martial Information.

System location:

Administrative Support Division (Code 40), Navy-Marine Corps Appellate Review Activity, Office of the Judge Advocate General, 716 Sicard Street SE, Suite 1000, Washington Navy Yard, DC 20374-5047.

Categories of individuals covered by the system:

Navy and Marine Corps personnel tried by general courts-martial and by special courts-martial when the special courts-martial sentence, as finally approved, includes a punitive discharge.

Categories of records in the system:

Courts-martial information on special courts-martial if sentence, as finally approved, includes a punitive discharge and all general courts-martial including name, Social Security Number, pleas, convening authority action, supervisory authority action, and Court of Military Review action. Information is available from 1970 through 1986 only.

Authority for maintenance of the system:

5 U.S.C. 301, Departmental Regulations; 42 U.S.C. 10601 et seq., Victim's Rights and Restitution Act of 1990 as implemented by DoD Instruction 1030.2, Victim and Witness Assistance Procedures; and E.O. 9397 (SSN).

Purpose(s):

To collect data on general and bad conduct discharge special courts-martial.

To provide information and support to victims and witnesses in compliance with the Victim and Witness Assistance Program, the Sexual Assault Prevention and Response Program, and the Victims' Rights and Restitution Act of 1990.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To governmental, public and private organizations and individuals, as required.

To victims and witnesses to comply with the Victim and Witness Assistance Program, the Sexual Assault Prevention and Response Program, and the Victims' Rights and Restitution Act of 1990.

The DoD ‘Blanket Routine Uses’ that appear at the beginning of the Navy's compilation of systems of records also apply to this system.

Policies and practices for storing, retrieving, accessing, retaining, and disposing of records in the system:

Storage:

Index card file.

Retrievability:

Index cards are filed by year appellate review of the case was completed and alphabetically by last name within a given year.

Safeguards:

Office is located in a secure building which is guarded 24 hours a day. Admission is allowed only to personnel on official business and authorized visitors.

Retention and disposal:

Indefinite.

System manager(s) and address:

Assistant Judge Advocate General (Military Justice), Office of the Judge Advocate General, 716 Sicard Street SE, Suite 1000, Washington Navy Yard, DC 20374-5047.

Notification procedure:

Individuals seeking to determine whether this system contains information about themselves should address written inquiries to the Division Director, Administrative Support Division, Navy and Marine Corps Appellate Review Activity, Office of the Judge Advocate General, Department of the Navy, 716 Sicard Street SE, Suite 1000, Washington Navy Yard, DC 20374-5047.

The request should contain full name and address of the individual concerned and should be signed.

Personal visits may be made to the Administrative Support Division, Navy and Marine Corps Appellate Review Activity, Office of the Judge Advocate General, Department of the Navy, 716 Sicard Street SE, Suite 1000, Washington Navy Yard, DC 20374-5047. Individuals making such visits should be able to provide acceptable identification, e.g., Armed Forces identification card, driver's license, etc.

Record access procedures:

Individuals seeking access to information about themselves contained in this system of records should address written inquiries to the Division Director, Administrative Support Division, Navy and Marine Corps Appellate Review Activity, Office of the Judge Advocate General, Department of the Navy, 716 Sicard Street SE, Suite 1000, Washington Navy Yard, DC 20374-5047.

The request should contain full name and address of the individual concerned and should be signed.

Personal visits may be made to the Administrative Support Division, Navy and Marine Corps Appellate Review Activity, Office of the Judge Advocate General, Department of the Navy, 716 Sicard Street SE, Suite 1000, Washington Navy Yard, DC 20374-5047. Individuals making such visits should be able to provide acceptable identification, e.g., Armed Forces identification card, driver's license, etc.

Contesting record procedures:

The Navy's rules for accessing records, and for contesting contents and appealing initial agency determinations are published in Secretary of the Navy Instruction 5211.5; 32 CFR part 701; or may be obtained from the system manager.

Record source categories:

Navy Judge Advocate General Form 5813/1.

Exemptions claimed for the system:

None.

N05814-4

System name:

Article 69(b) Petitions (May 28, 1999, 64 FR 29009).

Changes:

* * * * *

Purpose(s):

Add a new paragraph “To provide information and support to victims and witnesses in compliance with the Victim and Witness Assistance Program, the Sexual Assault Prevention and Response Program, and the Victims' Rights and Restitution Act of 1990.”

Routine uses of records maintained in the system, including categories of users and the purposes of such uses:

Add a new paragraph “To victims and witnesses of a crime for purposes of providing information, consistent with the requirements of the Victim and Witness Assistance Program, regarding the investigation and disposition of an offense.”

* * * * *

N05814-4

System name:

Article 69(b) Petitions.

System location:

Administrative Support Division, Navy and Marine Corps Appellate Review Activity, Office of the Judge Advocate General, Department of the Navy, 716 Sicard Street SE, Suite 1000, Washington Navy Yard, DC 20374-5047.

Categories of individuals covered by the system:

Navy and Marine Corps personnel who were tried by courts-martial which were not reviewed by the Navy-Marine Corps Court of Criminal Appeals and when such service member has petitioned the Judge Advocate General pursuant to Article 69(b), Uniform Code of Military Justice, for review.

Categories of records in the system:

Files contain individual service member's petition together with all forwarding endorsements and copy of action taken by the Judge Advocate General with supporting memorandum.

Authority for maintenance of the system:

5 U.S.C. 301, Departmental Regulations; Article 69, Uniform Code of Military Justice, 10 U.S.C. 869) and 42 U.S.C. 10601 et seq., Victim's Rights and Restitution Act of 1990 as implemented by DoD Instruction 1030.2, Victim and Witness Assistance Procedures.

Purpose(s):

To complete appellate review as required under 10 U.S.C. 869(b) and to provide a central repository accessible to the public who may request information concerning the appellate review or want copies of individual public records.

To provide information and support to victims and witnesses in compliance with the Victim and Witness Assistance Program, the Sexual Assault Prevention and Response Program, and the Victims' Rights and Restitution Act of 1990.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To victims and witnesses of a crime for purposes of providing information, consistent with the requirements of the Victim and Witness Assistance Program, regarding the investigation and disposition of an offense.

The DoD ‘Blanket Routine Uses’ that appear at the beginning of the Navy's compilation of systems of records apply to this system.

Policies and practices for storing, retrieving, accessing, retaining, and disposing of records in the system:

Storage:

File folders.

Retrievability:

Records are maintained in chronological calendar order with alphabetical cross-referencing system.

Safeguards:

Files are maintained in file cabinets and other storage devices under the control of authorized personnel during working hours; the office spaces in which the file cabinets and storage devices are located are locked outside official working hours.

Retention and disposal:

Records are maintained in office for four years and then destroyed.

System manager(s) and address:

Assistant Judge Advocate General (Military Justice), Office of the Judge Advocate General, Department of the Navy, 716 Sicard Street SE, Suite 1000, Washington Navy Yard, DC 20374-5047.

Notification procedure:

Individuals seeking to determine whether this system contains information about themselves should address written inquiries to the Division Director, Administrative Support Division, Navy and Marine Corps Appellate Review Activity, Office of the Judge Advocate General, Department of the Navy, 716 Sicard Street SE, Suite 1000, Washington Navy Yard, DC 20374-5047.

The request should contain full name and address of the individual concerned and should be signed.

Personal visits may be made to the Administrative Support Division, Navy and Marine Corps Appellate Review Activity, Office of the Judge Advocate General, Department of the Navy, 716 Sicard Street SE, Suite 1000, Washington Navy Yard, DC 20374-5047. Individuals making such visits should be able to provide acceptable identification, e.g., Armed Forces identification card, driver's license, etc.

Record access procedures:

Individuals seeking access to information about themselves contained in this system of records should address written inquiries to the Division Director, Administrative Support Division, Navy and Marine Corps Appellate Review Activity, Office of the Judge Advocate General, Department of the Navy, 716 Sicard Street SE, Suite 1000, Washington Navy Yard, DC 20374-5047.

The request should contain full name and address of the individual concerned and should be signed.

Personal visits may be made to the Administrative Support Division, Navy and Marine Corps Appellate Review Activity, Office of the Judge Advocate General, Department of the Navy, 716 Sicard Street SE, Suite 1000, Washington Navy Yard, DC 20374-5047. Individuals making such visits should be able to provide acceptable identification, e.g., Armed Forces identification card, driver's license, etc.

Contesting record procedures:

The Navy's rules for accessing records, and for contesting contents and appealing initial agency determinations are published in Secretary of the Navy Instruction 5211.5; 32 CFR part 701; or may be obtained from the system manager.

Record source categories:

The records comprise of the following source materials: (1) Petitions for relief, (2) forwarding endorsements thereon by petitioner's commanding officer and convening/supervisory authorities of courts-martial (above information is omitted if petitioner is former service member), and (3) action of the Judge Advocate General on petition.

Exemptions claimed for the system:

None.

N05814-5

System name:

Article 73 Petitions for New Trial (June 8, 1999, 64 FR 30497).

Changes:

* * * * *

Routine uses of records maintained in the system, including categories of users and the purposes of such uses:

Add a new paragraph “To victims and witnesses of a crime for purposes of providing information, consistent with the requirements of the Victim and Witness Assistance Program, regarding the investigation and disposition of an offense.”

N05814-5

System name:

Article 73 Petitions for New Trial.

System location:

Administrative Support Division, Navy and Marine Corps Review Activity, Office of the Judge Advocate General, Department of the Navy, 716 Sicard Street SE, Suite 1000, Washington Navy Yard, DC 20374-5047.

Categories of individuals covered by the system:

Navy and Marine Corps personnel who submitted petitions for new trial to the Judge Advocate General within two years after approval of their courts-martial sentence by the convening authority but after their case had been reviewed by the Navy-Marine Corps Court of Criminal Appeals or the Court of Appeals for the Armed Forces, if appropriate.

Categories of records in the system:

The petition for new trial, the forwarding endorsements if the petition was submitted via the chain of command, and the action of the Judge Advocate General on the petition.

Authority for maintenance of the system:

5 U.S.C. 301, Departmental Regulations; Article 73, Uniform Code of Military Justice, 10 U.S.C. 873); and 42 U.S.C. 10601 et seq., Victim's Rights and Restitution Act of 1990 as implemented by DoD Instruction 1030.2, Victim and Witness Assistance Procedures.

Purpose(s):

To provide a record of individual petitions in order to answer inquiries from the individual concerned and to provide additional advice to commands involved when and if such petitions are granted.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To victims and witnesses of a crime for purposes of providing information, consistent with the requirements of the Victim and Witness Assistance Program, regarding the investigation and disposition of an offense.

The DoD ‘Blanket Routine Uses’ that appear at the beginning of the Navy's compilation of systems of records apply to this system.

Policies and practices for storing, retrieving, accessing, retaining, and disposing of records in the system:

Storage:

File folders.

Retrievability:

Files are kept in alphabetical order according to the last name of the individual concerned.

Safeguards:

Files are maintained in file cabinets and other storage devices under the control of authorized personnel during working hours; the office space in which the file cabinets and storage devices are located is locked outside official working hours.

Retention and disposal:

Records are maintained in the office for four years and then destroyed.

System manager(s) and address:

Assistant Judge Advocate General (Military Justice), Office of the Judge Advocate General, Department of the Navy, 716 Sicard Street SE, Suite 1000, Washington Navy Yard, DC 20374-5047.

Notification procedure:

Individuals seeking to determine whether this system contains information about themselves should address written inquiries to the Division Director, Administrative Support Division, Navy and Marine Corps Appellate Review Activity, Office of the Judge Advocate General, Department of the Navy, 716 Sicard Street SE, Suite 1000, Washington Navy Yard, DC 20374-5047.

The request should contain full name and address of the individual concerned and should be signed.

Personal visits may be made to the Administrative Support Division, Navy and Marine Corps Appellate Review Activity, Office of the Judge Advocate General, Department of the Navy, 716 Sicard Street SE, Suite 1000, Washington Navy Yard, DC 20374-5047. Individuals making such visits should be able to provide acceptable identification, e.g., Armed Forces identification card, driver's license, etc.

Record access procedures:

Individuals seeking access to information about themselves contained in this system of records should address written inquiries to the Division Director, Administrative Support Division, Navy and Marine Corps Appellate Review Activity, Office of the Judge Advocate General, Department of the Navy, 716 Sicard Street SE, Suite 1000, Washington Navy Yard, DC 20374-5047.

The request should contain full name and address of the individual concerned and should be signed.

Personal visits may be made to the Administrative Support Division, Navy and Marine Corps Appellate Review Activity, Office of the Judge Advocate General, Department of the Navy, 716 Sicard Street SE, Suite 1000, Washington Navy Yard, DC 20374-5047. Individuals making such visits should be able to provide acceptable identification, e.g., Armed Forces identification card, driver's license, etc.

Contesting record procedures:

The Navy's rules for accessing records, and for contesting contents and appealing initial agency determinations are published in Secretary of the Navy Instruction 5211.5; 32 CFR part 701; or may be obtained from the system manager.

Record source categories:

The records are comprised of the following source materials: (1) Petitions for new trial; (2) forwarding endorsements thereon by petitioner's commanding officer and convening/supervisory authorities of courts-martial (above information is omitted if petitioner is former service member); and (3) action of the Judge Advocate General on petitions.

Exemptions claimed for the system:

None.

[FR Doc. 01-412 Filed 1-5-01; 8:45 am]

BILLING CODE 5001-10-P